DEPARTMENT OF JUSTICE

Antitrust Division

Notice Pursuant to the National Cooperative Research and Production Act of 1993—Portland Cement Association (“PCA”)

Notice is hereby given that, on October 25, 1999, pursuant to Section 6(a) of the National Cooperative Research and Production Act of 1993, 15 U.S.C. 4301 et seq. (“the Act”), Portland Cement Association (“PCA”) has filed written notifications simultaneously with the Attorney General and the Federal Trade Commission disclosing changes in its membership status. The notifications were filed for the purpose of extending the Act's provisions limiting the recovery of antitrust plaintiffs to actual damages under specified circumstances. Specifically, RMC Pacific Materials Inc., Pleasanton, CA; and Southdown, Inc., Owen Sound, Ontario, Canada have been added as parties to this venture. Also, RMC Lonestar, Pleasanton, CA has been dropped as a party to this venture.

No other changes have been made in either the membership or planned activity of the group research project. Membership in this group research project remains open, and Portland Cement Association (“PCA”) intends to file additional written notification disclosing all changes in membership.

On January 7, 1985, Portland Cement Association (“PCA”) filed its original notification pursuant to Section 6(a) of the Act. The Department of Justice published a notice in the Federal Register pursuant to Section 6(b) of the Act on February 5, 1985 (50 FR 5015).

The last notification was filed with the Department on September 7, 1999. A Notice has not yet been published in the Federal Register.

Constance K. Robinson,
Director of Operations Antitrust Division.

[FR Doc. 00-10598 Filed 4-27-00; 8:45 am]

BILLING CODE 4410-11-M